DEPARTMENT OF THE TREASURY

Submission for OMB Review; Comment Request

February 20, 2014.

The Department of the Treasury will submit the following information collection request to the Office of Management and Budget (OMB) for review and clearance in accordance with the Paperwork Reduction Act of 1995, Public Law 104-13, on or after the date of publication of this notice.

DATES: Comments should be received on or before March 28, 2014 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave., NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Terrorism Risk Insurance Program (TRIP)

OMB Number: 1505-0200.

Type of Review: Revision of a currently approved collection.

Title: Terrorism Risk Insurance Program Loss Reporting.

Form: TRIP 01, 02, 02A, 02B, and 02C.

Abstract: Information collection made necessary by the Terrorism Risk Insurance Act of 2002, as amended by the Terrorism Risk Insurance Extension Act of 2005, the Terrorism Risk Insurance Program Reauthorization Act of 2007, and by Treasury implementing regulations to pay the Federal share to commercial property and casualty insurers for terrorism losses.

Affected public: Private Sector: Businesses or other for-profits.

Estimated Annual Burden Hours: 4,200.

Dawn D. Wolfgang,
Treasury PRA Clearance Officer.

[FR Doc. 2014-04098 Filed 2-25-14; 8:45 am]

BILLING CODE 4810-25-P